DEPARTMENT OF HEALTH AND HUMAN SERVICES

Administration for Children and Families

Proposed Information Collection Activity; Comment Request

Proposed Projects:

Title: Online Intergovernmental Referral Guide (IRG).

OMB No. 0970-0209.

Description: The IRG is an essential reference maintained by the Office of Child Support Enforcement (OCSE) that provides states with an effective and efficient way of viewing and updating state profile, address, and FIPS code information by consolidating data available through numerous discrete sources into a single centralized, automated repository.

Respondents: State IV-D Child Support Programs, Other Country Child Support Programs.

Annual Burden Estimates
Respondent | Number of respondents | Number of responses per respondent | Average burden hours per response | Total burden hours
States and Territories | 54 | 18 | .3 | 292
Foreign Countries and Canadian provinces | 23 | 2 | .1 | 5

Estimated Total Annual Burden Hours: 297.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 17, 2005.
Robert Sargis,
Reports Clearance Officer.

[FR Doc. 05-21163 Filed 10-21-05; 8:45 am]

BILLING CODE 4184-01-M